Proclamation 7787 of May 14, 2004

Small Business Week, 2004

By the President of the United States of America

A Proclamation

The dedication and entrepreneurial spirit of small business owners are vital to our Nation's economic growth and prosperity. We celebrate Small Business Week to applaud the efforts of America's small business men and women in our communities.

Small businesses are a central part of America's economy. They create approximately 70 percent of new private sector jobs in this country. As our Nation's economy continues to grow stronger, we must encourage their spirit of enterprise.

To help small businesses invest and create more jobs, we have decreased the tax burden. We have given small business men and women a fair chance to bid on government contracts. We have a plan to create more opportunity for America's small businesses and workers by making health care costs more affordable and predictable; streamlining regulations and paperwork requirements; reducing frivolous lawsuits; making America less dependent on foreign sources of energy; and permanently eliminating the death tax.

In this Small Business Week, we salute America's small business owners and entrepreneurs and workers for their contributions to America's prosperity and for making our Nation better and stronger.

NOW, THEREFORE, I, GEORGE W. BUSH, President of the United States of America, by virtue of the authority vested in me by the Constitution and laws of the United States, do hereby proclaim May 16 through May 22, 2004, as Small Business Week. I call upon all the people of the United States to observe this week with appropriate ceremonies, activities, and programs that celebrate the achievements of small business owners and their employees and encourage and foster the development of new small businesses.

IN WITNESS WHEREOF, I have hereunto set my hand this fourteenth day of May, in the year of our Lord two thousand four, and of the Independence of the United States of America the two hundred and twenty-eighth.

B

[FR Doc. 04-11462

Filed 5-18-04; 8:45 am]

Billing code 3195-01-P